ENVIRONMENTAL PROTECTION AGENCY

[EPA-HQ-OPP-2006-0091; FRL-7761-4]

Pesticide Product Registrations; Conditional Approval

AGENCY: Environmental Protection Agency (EPA).

ACTION: Notice.

SUMMARY: This notice announces Agency approval of applications submitted by AgraQuest, Inc., to conditionally register the pesticide products Muscodor albus strain QST 20799, (manufacturing use product) and its end-use products, Arabesque, Andante, and Glissade containing the new active ingredient not included in any previously registered products pursuant to the provisions of section 3(c)(7)(C) of the Federal Insecticide, Fungicide, and Rodenticide Act (FIFRA), as amended.

FOR FURTHER INFORMATION CONTACT: Shanaz Bacchus, Biopesticides and Pollution Prevention Division (7511C), Office of Pesticide Programs, Environmental Protection Agency, 1200 Pennsylvania Ave., NW., Washington, DC 20460-0001; telephone number: (703) 308-8097; e-mail address: bacchus.shanaz@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions. If you have any questions regarding the applicability of this action to a particular entity, consult the person listed under FOR FURTHER INFORMATION CONTACT.

B. How Can I Get Copies of this Document and Other Related Information?

1. Docket. EPA has established a docket for this action under Docket identification number (ID) EPA-HQ-OPP-2006-0091. Publicly available docket materials are available either electronically at http://www.regulations.gov or in hard copy at the Public Information and Records Integrity Branch (PIRIB), Rm. 119, Crystal Mall #2, 1801 S. Bell St., Arlington, VA. This Docket Facility is open from 8:30 a.m. to 4 p.m., Monday through Friday, excluding legal holidays. The Docket telephone number is (703) 305-5805.

In accordance with section 3(c)(2) of FIFRA, a copy of the approved label, the list of data references, the data and other scientific information used to support registration, except for material specifically protected by section 10 of FIFRA, are available for public inspection in the Public Information and Records Integrity Branch, Information Technology and Resources Management Division (7502C), Office of Pesticide Programs, Environmental Protection Agency, Rm. 119, Crystal Mall #2, 1801 S. Bell St., Arlington, VA (703) 305-5805. Requests for data must be made in accordance with the provisions of the Freedom of Information Act and must be addressed to the Freedom of Information Office (A-101), 1200 Pennsylvania Ave., NW., Washington, DC 20460-0001. Such requests should: Identify the product name and registration number and specify the data or information desired.

A paper copy of the fact sheet, which provides more detail on this registration, may be obtained from the National Technical Information Service (NTIS), 5285 Port Royal Rd., Springfield, VA 22161.

2. Electronic access. You may access this Federal Register document electronically through the EPA Internet under the “Federal Register” listings at http://www.epa.gov/fedrgstr/.

Agency Website: EDOCKET, EPA's electronic public docket and comment system was replaced on November 25, 2005, by an enchanced Federal-wide electronic docket management and comment system located at http://www.regulations.gov/. Follow the on-line instructions.

II. Did EPA Conditionally Approve the Application?

A conditional registration may be granted under section 3(c)(7)(C) of FIFRA for a new active ingredient where certain data are lacking, on condition that such data are received by the end of the conditional registration period and do not meet or exceed the risk criteria set forth in 40 CFR 154.7; that use of the pesticide during the conditional registration period will not cause unreasonable adverse effects; and that use of the pesticide is in the public interest. The Agency has considered the available data on the risks associated with the proposed use of Muscodor albus QST 20799, and information on social, economic, and environmental benefits to be derived from such use. Specifically, the Agency has considered the nature and its pattern of use, application methods and rates, and level and extent of potential exposure. Based on these reviews, the Agency was able to make basic health and safety determinations which show that use of Muscodor albus QST 20799 during the period of conditional registration will not cause any unreasonable adverse effect on the environment, and that use of the pesticide is, in the public interest.

Consistent with section 3(c)(7)(C) of FIFRA, the Agency has determined that these conditional registrations are in the public interest. Use of the pesticides are of significance to the user community, and appropriate labeling, use directions, and other measures have been taken to ensure that use of the pesticides will not result in unreasonable adverse effects to man and the environment.

III. Conditionally Approved Registrations

EPA issued a notice, published in the Federal Register of April 14, 2004 (69 FR 19845) (FRL-7352-7), which announced that AgraQuest, Inc., 1530 Drew Avenue, Davis, CA 95616, had submitted an application to conditionally register the pesticide product, Muscodor albus strain QST 20799, biofumigant (EPA File Symbol 69592-RU), containing Muscodor albus QST 20799, a microbial fungal active ingredient at 2.1%, an active ingredient not included in any previously registered product.

This application also included registration of three end-use products (EPs), each containing 0.35% of Muscodor albus QST 20799. The EPs are: Arabesque (EPA File Symbol 69592-RL); Andante (EPA File Symbol 69592-RT; and Glissade (EPA File Symbol 69592-RI).

The applications were conditionally approved on September 22, 2005 for three end-use products each containing 0.35% of Muscodor albus QST 20799 and a manufacturing use product containing this microbial active ingredient at 2.1%.

The conditionally approved products are:

1. Muscodor albus strain QST 20799: For manufacturing use; for formulating into end-use products. (EPA Registration Number 69592-14).

2. Arabesque: For the control of post harvest diseases of food and non-food commodities, and preplant control of seed, bulb, and tuber borne diseases of food and non-food commodities (EPA Registration Number 69592-15).

3. Andante: For use as a methyl bromide replacement to control soil fungi and nematodes (EPA Registration Number 69592-17).

4. Glissade: For control of soil diseases for food and non-food commodities (EPA Registration Number 69592-18).

As a condition of registration, the registrant is required to provide a rodent study to confirm that the volatiles produced on rehydration of the pesticide do not pose an inhalation hazard. These volatiles occur naturally as flavors and fragrances in foods and beverages. Neither the parent microbe nor the volatile will have adverse effects on humans and the environment via dietary, cumulative and aggregate exposure as based on the evaluation of toxicological studies submitted by the registrant.

List of Subjects

Environmental protection, Chemicals, Pesticides and pests.

Dated: February 7, 2006.
Janet L. Andersen,
Director, Biopesticides and Pollution Prevention Division, Office of Pesticide Programs.

[FR Doc. 06-1566 Filed 2-21-06; 8:45 am

BILLING CODE 6560-50-S